DEPARTMENT OF THE INTERIOR

Bureau of Land Management

[16X.LLAKF01000.L13100000.DB0000.LXSS001L0000]

Notice of Intent To Prepare a Supplemental Environmental Impact Statement for the Alpine Satellite Development Plan for the Proposed Greater Mooses Tooth 2 Development Project, Alaska

AGENCY: Bureau of Land Management, Interior.

ACTION: Notice of intent.

SUMMARY: In accordance with the National Environmental Policy Act of 1969, as amended (NEPA), the Federal Land Policy and Management Act of 1976, as amended (FLPMA), and the Alaska National Interest Lands Conservation Act of 1980, as amended (ANILCA), the Bureau of Land Management (BLM) Arctic Field Office, Fairbanks, Alaska, intends to prepare a Supplemental Environmental Impact Statement (EIS) for the proposed continuing development of petroleum resources in the Greater Mooses Tooth (GMT) Unit. The development would occur at the proposed Greater Mooses Tooth Two (GMT2) drilling and production pad located within the National Petroleum Reserve in Alaska (NPR-A), a 22.8 million-acre area of BLM-managed land located 200 miles north of the Arctic Circle. The GMT2 development would be connected by road and pipeline to the approved Greater Mooses Tooth One (GMT1) development. The Supplemental EIS is being prepared for the purpose of supplementing the Alpine Satellite Development Plan (ASDP) Final EIS, dated September 2004, regarding the establishment of satellite oil production pads and associated infrastructure within the Alpine field.

DATES: Comments on relevant issues that will influence the scope of the supplemental EIS for the proposed GMT2 Development project may be submitted in writing until August 29, 2016. The BLM will provide opportunities for public participation upon publication of the Draft Supplemental EIS, including public meetings and a public comment period. Any Federal, state, or local agency or tribe that is interested in serving as a cooperating agency for the development of the Supplemental EIS are asked to submit such requests to the BLM by August 29, 2016.

ADDRESSES: You may submit comments until August 29, 2016 on issues related to the proposed GMT2 Development Project by any of the following methods:

• Email: BLM_AK_GMT2_Comments@blm.gov.

• Fax: 907-271-5479.

• Mail: GMT2 Scoping Comments, Bureau of Land Management, 222 West 7th Ave., Stop #13, Anchorage, AK 99513.

Before including your address, phone number, email address, or other personal identifying information in your comment, you should be aware that your entire comment—including your personal identifying information—may be made publicly available at any time. While you can ask us in your comment to withhold your personal identifying information from public review, we cannot guarantee that we will be able to do so. You may examine documents pertinent to this proposal at the BLM Alaska Public Room, Fairbanks District Office, 1150 University Ave., Fairbanks, AK 99709, and at the BLM Alaska Public Information Center, Alaska State Office, 222 West 7th Ave., Anchorage, AK 99513.

FOR FURTHER INFORMATION CONTACT: Stacie McIntosh, Arctic Field Office Manager, 907-474-2310, Bureau of Land Management, 1150 University Avenue, Fairbanks, AK 99709. Also contact Ms. McIntosh if you wish to add your name to the mailing list to receive further information about this project. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: On August 24, 2015, ConocoPhillips Alaska, Inc. (CPAI) submitted an Application for Permit to Drill (APD) an oil well and construct associated ancillary facilities to support up to 48 wells, including a production pad, pipeline, and road to facilitate development of petroleum resources within the Greater Mooses Tooth (GMT) Unit. The well site is named GMT2. The proposed project is located on Alaska's North Slope within the NPR-A, which encompasses approximately 22.8 million acres of public land. The project would facilitate production of oil from Federal and Alaska Native corporation lands within the NPR-A. The GMT2 project proposes a drill site on land currently managed by the BLM within the GMT Unit. This land is selected for conveyance by the Kuukpik Corporation, an Alaska Native corporation organized under the Alaska Native Claims Settlement Act of 1971 (ANCSA). The GMT2 site is approximately 15 miles west of the community of Nuiqsut. The associated pipeline and access road would traverse both Kuukpik Corporation lands and Federal lands within NPR-A for approximately 8.1 miles in a northeasterly direction to the Greater Mooses Tooth One (GMT1) development project, which was approved in February 2015 after its Final Supplemental EIS was completed in October 2014. At GMT1, the pipeline would connect to the approved GMT1 pipeline. From GMT1, produced oil, gas, and water would be carried via this pipeline across Kuukpik Corporation lands and Federal lands within the NPR-A, and across Alaska Native corporation lands and State of Alaska lands outside the NPR-A, to the Alpine Central Processing Facility (CD-1). Sales-quality crude would then be transported from CD-1 via pipeline to the Trans-Alaska Pipeline System.

CPAI proposes placement of 78 acres of fill material to construct the GMT2 drill pad, an approximately 8.1-mile-long gravel access road, and an 8.6-mile-long pipeline, which includes electrical and communication cables, from the GMT1 pad. Gravel required for construction of the drill site and road would be obtained from the Arctic Slope Regional Corporation (ASRC) mine site, an existing commercial gravel source located on the east side of the Colville River outside the boundary of the NPR-A, approximately 15 miles east of the proposed site. The proposed GMT2 pad would be approximately 14 acres in size, would eventually contain up to 48 individual wells, and would be operated and maintained by staff from CD-1, who would travel to the site via the gravel road.

The purpose of the Supplemental EIS is to evaluate new circumstances and information that have arisen since the ASDP Final EIS was issued in September 2004, as well as to address any changes in CPAI's proposed development plan for GMT2. A version of the GMT2 project was initially approved in the Record of Decision (ROD) under the 2004 ASDP Final EIS as site CD-7, and was included as reasonably foreseeable development in the 2012 NPR-A Integrated Activity Plan (IAP) EIS and the 2014 GMT1 Supplemental EIS. The GMT2 Supplemental EIS will address proposed changes to the previously approved design and location of the site, and any new information that could affect Federal permitting decisions.

New information includes data from ongoing multi-year studies on hydrology, birds, caribou, vegetation, wetlands, and subsistence use. In addition, since 2004, the study of climate change and its potential effects has advanced considerably, and new data resulting from this research will be included in the environmental analysis. The BLM adopted a new IAP for the NPR-A in February 2013, which contains updated protective measures. The polar bear was listed as threatened under the Endangered Species Act in 2008, and critical habitat has been proposed within the NPR-A.

The proposed GMT2 project is similar to the CD-7 project that was approved in the 2004 ASDP ROD, with several notable changes: A relocated drill site, increased road and pipeline length due to the relocation, and the elimination of overhead powerlines. In addition, the BLM is developing a Regional Mitigation Strategy that will help to guide the mitigation considerations in the GMT2 NEPA process.

At present, the BLM has identified the following preliminary issues for evaluation in the Supplemental EIS: Air quality; biological resources, including special status species; cultural resources; social impacts, including subsistence use and environmental justice; climate change effects; wetlands and other waters of the United States; and reasonably foreseeable future activities.

The BLM will use NEPA public participation requirements to assist the agency in satisfying the public involvement requirements under Section 106 of the National Historic Preservation Act (NHPA) (54 U.S.C. 306108), pursuant to 36 CFR 800.2(d)(3). The information about historic and cultural resources within the area potentially affected by the proposed action will assist the BLM in identifying and evaluating impacts to cultural resources in the context of both NEPA and Section 106 of the NHPA.

The BLM will consult with federally recognized Indian tribes on a government-to-government basis in accordance with Executive Order 13175 and other policies. Tribal concerns, including impacts on Indian trust assets and potential impacts to cultural resources, will be given appropriate consideration. Federal, state, and local agencies and tribes that may be interested in or affected by the proposed action that the BLM is evaluating, are invited to participate in the development of the environmental review as cooperating agencies.

Authority: 40 CFR 1502.9, 43 CFR part 3100

Ted Murphy,
Associate State Director.

[FR Doc. 2016-17962 Filed 7-28-16; 8:45 am]

BILLING CODE 4310-JA-P